DEPARTMENT OF TRANSPORTATION

Federal Aviation Administration

14 CFR Part 71

[Docket No. FAA-2023-1352; Airspace Docket No. 23-ASO-55]

RIN 2120-AA66

Amendment of Class D and Class E Airspace; Ozark, AL and Columbus, GA; Correction

AGENCY: Federal Aviation Administration (FAA), DOT.

ACTION: Final rule; correction.

SUMMARY: The FAA is correcting a final rule that published in the Federal Register on December 12, 2023. The final rule amended Class D and Class E surface airspace for Fort Novosel, Ozark, AL, and Fort Moore, Columbus, GA. This action corrects errors in the Class E legal descriptions for both Air Fields.

DATES: Effective 0901 UTC, March 21, 2024. The Director of the Federal Register approves this incorporation by reference action under 1 CFR part 51, subject to the annual revision of FAA Order JO 7400.11 and publication of conforming amendments.

ADDRESSES: FAA Order JO 7400.11H, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: John Fornito, Operations Support Group, Eastern Service Center, Federal Aviation Administration, 1701 Columbia Avenue, College Park, GA 30337; telephone: (404) 305-6364.

SUPPLEMENTARY INFORMATION:

History

The FAA published a final rule in the Federal Register on December 12, 2023 (88 FR 86039), for Docket No. FAA-2023-1352, updating the Class D airspace and Class E airspace for Fort Novosel, Ozark, AL, and Fort Moore, Columbus, GA, by updating each airport's name and replacing Notice to Airmen with Notice to Air Missions, and replacing the term Airport/Facility Directory with Chart Supplement in the appropriate descriptions. After publication, the FAA found the Class E surface description for Fort Novosel was inadvertently transposed. Also, the Class E airspace extending upward from 700 feet above the surface for Columbus, GA, was incorrectly transposed with the Columbus, MS description. This action corrects these errors.

Correction to the Final Rule

In FR Doc 2023-27195 at 86039, published in the Federal Register on December 12, 2023, the FAA makes the following corrections:

1. On page 86040, in the first column, correct the ASO AL E2 description for Fort Novosel (Ozark), AL, to read as follows:

ASO AL E2 Fort Novosel (Ozark), AL [Corrected]

Cairns Army Air Field (Fort Novosel), AL

(Lat. 31°16′33″ N, long 85°42′48″ W)

That airspace extending upward from the surface within a 5-mile radius of lat. 31°18′30″ N, long. 85°42′20″ W. This Class E airspace area is effective during the specific dates and times established in advance by a Notice to Air Missions. The effective date and time will thereafter be continuously published in the Chart Supplement.

2. On page 86040, beginning in the first column under Paragraph 6005 Class E Airspace Areas Extending Upward From 700 Feet or More Above the Surface of the Earth, correct the Class E Airspace Areas description to read as follows:

Paragraph 6005 Class E Airspace Areas Extending Upward From 700 Feet or More Above the Surface of the Earth [Corrected]

* * * * *

ASO GA E5 Columbus, GA [Amended]

Columbus Airport, GA

(Lat. 32°30′59″ N, long 84°56′20″ W)

Lawson AAF (Fort Moore), GA

(Lat. 32°19′54″ N, long 84°59′14″ W)

That airspace extending upward from 700 feet above the surface within a 9.6-mile radius of Columbus Airport, within a 9.3-mile radius of Lawson AAF (Fort Moore), and 3.8 miles each side of Lawson AAF (Fort Moore) 341° bearing from the AAF extending from the 9.3-mile radius to 15.2 miles northwest of the AAF, and 4.1 miles each side of the Lawson AAF (Fort Moore) 145° bearing from the AAF extending from the 9.3-mile radius to 10.6 miles southeast of the AAF.

Issued in College Park, Georgia, on December 19, 2023.
Andreese C. Davis,
Manager, Airspace & Procedures Team South, Eastern Service Center, Air Traffic Organization.

[FR Doc. 2023-28314 Filed 1-10-24; 8:45 am]

BILLING CODE 4910-13-P